DEPARTMENT OF HEALTH AND HUMAN SERVICES

Centers for Disease Control and Prevention

[30Day-06-05BZ]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-6974. Written comments should be received within 30 days of this notice.

Proposed Project

Evaluation of the Effectiveness of the Smoke Alarm Installation and Fire Safety Education (SAIFE) Program—New—National Center for Injury Prevention and Control (NCIPC), Centers for Disease Control and Prevention (CDC).

Background and Brief Description

Each year approximately 400,000 residential fires occur in the United States. Smoke alarms have been shown to reduce fire-related injury and fatality. This project will use data from in-person interviews, paper and pencil (PAPI) and telephone surveys to determine the degree to which the Smoke Alarm Installation and Fire Safety Education (SAIFE) program improves knowledge, attitudes, and practices about fire and burn safety and its efficacy in delivering fire safety information. The data will be collected from a convenience sample of adults 18 years of age or older who volunteer to participate in the SAIFE program. Program participants will be asked to complete a 15-minute survey twice while taking part in the SAIFE program, once immediately before the intervention and 6 months after equipment installation. Approximately 10% of the respondents surveyed will be randomly selected for an extensive 1 hour face to face interview 6 months following the installation period. The evaluation will measure changes across time, between groups, and within groups among communities involved in the program. CDC currently funds 16 states to provide installation of smoke alarms plus general fire safety education in households at high risk for fire and fire-related injury and death. Programs of this type are thought to prevent fire-related injury and mortality, but have not been studied scientifically to assess their impact on fire-related injury outcomes. The proposed study represents the first formal effort to evaluate the effectiveness and cost implications of the SAIFE program as implemented in North Carolina. The data collected in this study will have the potential to impact other smoke alarm installation programs, as well as indicate future priorities in prevention and preparedness for residential fires. There are no costs to the respondents other than their time. The total estimated annualized burden hours are 251.

Estimated Annualized Burden Hours
Respondents | No. of respondents | No. of responses per respondent | Average burden per response (in hours).
Adult male and female (age 18+ years) screened | 425 | 1 | 5/60
Adult male and female (age 18+ years) Pre/Post Evaluation survey | 360 | 2 | 15/60
Adult male and female (age 18+ years) household visit | 36 | 1 | 1

Dated: May 8, 2006.
Joan F. Karr,
Acting Reports Clearance Officer, Centers for Disease Control and Prevention.

[FR Doc. E6-7732 Filed 5-19-06; 8:45 am]

BILLING CODE 4163-18-P